DEPARTMENT OF LABOR

Employment and Training Administration

Proposed Information Collection Request for ETA Handbook No. 391, Unemployment Compensation for Federal Employees; Comment Request for Extension Without Change

AGENCY: Employment and Training Administration, Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before June 1, 2009.

ADDRESSES: Quinn Watt, U.S. Department of Labor, Employment and Training Administration, Room S-4231, 200 Constitution Avenue, NW., Washington, DC 20210, Phone: (202) 693-3483 (This is not a toll-free number), Fax: (202) 693-3975, e-mail: Watt.Quinn@dol.gov.

SUPPLEMENTARY INFORMATION:

I. Background

Chapter 5 U.S.C. 8506 states that “Each agency of the United States and each wholly or partially owned instrumentality of the United States shall make available to State agencies which have agreements, or the Secretary of Labor, as the case may be, such information concerning the Federal service and Federal wages of a Federal employee as the Secretary considers practicable and necessary for the determination of the entitlement of the Federal employee to compensation under this subchapter.” The information shall include the findings of the employing agency concerning—

(1) Whether or not the Federal employee has performed Federal service;

(2) The periods of Federal Service;

(3) The amount of Federal wages; and

(4) The reasons for termination of Federal service.

The law (5 U.S.C. 8501, et seq.) requires State Workforce Agencies (SWA's) to administer the UCFE (Unemployment Compensation for Federal Employees) program in accordance with the same terms and provisions of the paying State's unemployment insurance law which apply to unemployed claimants who worked in the private sector. SWA's must be able to obtain certain information (wage, separation data) about each claimant filing claims for UCFE benefits to enable them to determine his/her eligibility for benefits. The Department of Labor has prescribed forms to enable SWAs to obtain this necessary information from the individual's Federal employing agency. Each of these forms is essential to the UCFE claims process and the frequency of use varies depending upon the circumstances involved. The UCFE forms are: ETA-931, ETA-931A, ETA-933, ETA-934, ETA-935, ETA-936, ETA-939, and ETA 8-32.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without change.

Agency: Employment and Training Administration (ETA).

Title: ETA Handbook No. 391 (Unemployment Compensation for Federal Employees).

OMB Number: 1205-0179.

Agency Number: ETA Handbook No. 391.

Affected Public: State Governments.

Total Respondents: 53.

Frequency: While all UCFE claims require an ETA 931 and ETA 935, the other forms are used as needed.

Total Responses: 131,142 responses.

Average Time per Response: 3 seconds per response.

Estimated Total Burden Hours: 111 hours.

Total Burden Cost (Capital/Startup): $0.

Total Burden Cost (Operating/Maintaining): $0.

Comments submitted in response to this notice will be summarized and/or included in the request for Office of Management and Budget approval of the information collection request; they will also become a matter of public record.

Dated: March 25, 2009.
Cheryl Atkinson,
Administrator, Office of Workforce Security.

[FR Doc. E9-7121 Filed 3-30-09; 8:45 am]

BILLING CODE 4510-FW-P